FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011075-063.

Title: Central America Discussion Agreement.

Parties: A.P. Moller-Maersk A/S; APL Co. PTE Ltd.; Crowley Liner Services, Inc.; Dole Ocean Cargo Express; King Ocean Services Limited; and Seaboard Marine, Ltd.

Synopsis: The amendment eliminates the separate geographic sections under the agreement, makes technical corrections to eliminate obsolete or repetitive language, and updates Maersk's name.

Agreement No.: 201110-006.

Title: Berths 55-56 Agreement.

Parties: Port of Oakland and Total Terminals International, LLC, as Hanjin Shipping Company, Ltd.'s assignee.

Synopsis: The modification clarifies the primary and secondary use provisions and the completion dates for the improvements of the premises. It also provides for the use of port-owned cranes.

By Order of the Federal Maritime Commission.
Dated: October 3, 2003.
Bryant L. VanBrakle,
Secretary.

[FR Doc. 03-25527 Filed 10-7-03; 8:45 am]

BILLING CODE 6730-01-P